DEPARTMENT OF COMMERCE

International Trade Administration

[A-588-846]

Certain Hot-Rolled Flat-Rolled Carbon-Quality Steel Products from Japan: Final Results of Antidumping Duty Administrative Review

AGENCY: Import Administration, International Trade Administration, U.S. Department of Commerce.

SUMMARY: On March 9, 2006, the Department of Commerce (the Department) published in the Federal Register the preliminary results of the administrative review of the antidumping duty order on Certain Hot-Rolled Flat-Rolled Carbon-Quality Steel Products from Japan (hot-rolled steel). This review covers two manufacturers/exporters: JFE Steel Corporation (JFE) and Kawasaki Steel Corporation (Kawasaki). The period of review (POR) covers sales of subject merchandise to the United States during the period of June 1, 2004, through May 31, 2005.

We provided interested parties with an opportunity to comment on the preliminary results of review. However, we received no comments from interested parties. Consequently, no changes have been made to the dumping margins set forth in the preliminary results of this administrative review. For the margins applicable to each respondent, see the “Final Results of Review” section of this notice.

EFFECTIVE DATE: June 1, 2006.

FOR FURTHER INFORMATION CONTACT: Kimberley Hunt, AD/CVD Operations, Office 6, Import Administration, International Trade Administration, U.S. Department of Commerce, 14th Street and Constitution Avenue, NW, Washington DC 20230; telephone: (202) 482-1272.

SUPPLEMENTARY INFORMATION:

Background

On March 9, 2006, the Department published in the Federal Register the preliminary results of the administrative review of the antidumping duty order on hot-rolled steel from Japan. See Certain Hot-Rolled Carbon Steel Flat Products from Japan: Preliminary Results of Antidumping Duty Administrative Review, 71 FR 12179 (March 9, 2006) (Preliminary Results). No interested parties filed case briefs in response to the Department's invitation to comment on the Preliminary Results.

Period Of Review

This review covers the period June 1, 2004, through May 31, 2005.

Scope Of The Order

The merchandise covered by this order consists of certain hot-rolled flat-rolled carbon-quality steel products of a rectangular shape, of a width of 0.5 inch or greater, neither clad, plated, nor coated with metal and whether or not painted, varnished, or coated with plastics or other non-metallic substances, in coils (whether or not in successively superimposed layers) regardless of thickness, and in straight lengths, of a thickness less than 4.75 mm and of a width measuring at least 10 times the thickness. Universal mill plate (i.e., flat-rolled products rolled on four faces or in a closed box pass, of a width exceeding 150 mm but not exceeding 1250 mm and of a thickness of not less than 4 mm, not in coils and without patterns in relief) of a thickness not less than 4.0 mm is not included within the scope of this order.

Specifically included in this scope are vacuum degassed, fully stabilized (commonly referred to as interstitial-free (IF)) steels, high strength low alloy (HSLA) steels, and the substrate for motor lamination steels. IF steels are recognized as low carbon steels with micro-alloying levels of elements such as titanium and/or niobium added to stabilize carbon and nitrogen elements. HSLA steels are recognized as steels with micro-alloying levels of elements such as chromium, copper, niobium, titanium, vanadium, and molybdenum. The substrate for motor lamination steels contains micro-alloying levels of elements such as silicon and aluminum. Steel products to be included in the scope of this investigation, regardless of Harmonized Tariff Schedule of the United States (HTSUS) definitions, are products in which: (1) iron predominates, by weight, over each of the other contained elements; (2) the carbon content is 2 percent or less, by weight; and (3) none of the elements listed below exceeds the quantity, by weight, respectively indicated:

1.80 percent of manganese, or

1.50 percent of silicon, or

1.00 percent of copper, or

0.50 percent of aluminum, or

1.25 percent of chromium, or

0.30 percent of cobalt, or

0.40 percent of lead, or

1.25 percent of nickel, or

0.30 percent of tungsten, or

0.012 percent of boron, or

0.10 percent of molybdenum, or

0.10 percent of niobium, or

0.41 percent of titanium, or

0.15 percent of vanadium, or

0.15 percent of zirconium.

All products that meet the physical and chemical description provided above are within the scope of this order unless otherwise excluded. The following products, by way of example, are outside and/or specifically excluded from the scope of this order:

• Alloy hot-rolled steel products in which at least one of the chemical elements exceeds those listed above (including e.g., ASTM specifications A543, A387, A514, A517, and A506).

• SAE/AISI grades of series 2300 and higher.

• Ball bearing steels, as defined in the HTSUS.

• Tool steels, as defined in the HTSUS.

• Silico-manganese (as defined in the HTSUS) or silicon electrical steel with a silicon level exceeding 1.50 percent.

• ASTM specifications A710 and A736.

• USS abrasion-resistant steels (USS AR 400, USS AR 500).

• Hot-rolled steel coil which meets the following chemical, physical and mechanical specifications:

C | Mn | P | S | Si | Cr | Cu | Ni
0.10-0.14%% | 0.90%% Max | 0.025%% Max | 0.005%% Max | 0.30-0.50%% | 0.50-0.70%% | 0.20-0.40%% | 0.20%% Max

Width = 44.80 inches maximum; Thickness = 0.063-0.198 inches; Yield Strength = 50,000 ksi minimum; Tensile Strength = 70,000-88,000 psi.

Hot-rolled steel coil which meets the following chemical, physical and mechanical specifications:

C | Mn | P | S | Si | Cr | Cu | Ni | Mo
0.10-0.16%% | 0.70-0.90%% | 0.025%% Max | 0.006%% Max | 0.30-0.50%% | 0.50-0.70%% | 0.25%% Max | 0.20%% Max | 0.21%% Max

Width = 44.80 inches maximum; Thickness = 0.350 inches maximum; Yield Strength = 80,000 ksi minimum; Tensile Strength = 105,000 psi Aim.

Hot-rolled steel coil which meets the following chemical, physical and mechanical specifications:

C | Mn | P | S | Si | Cr | Cu | Ni | V (wt.) | Cb
0.10-0.14%% | 1.30-1.80%% | 0.025%% Max | 0.005%% Max | 0.30-0.50%% | 0.50-0.70%% | 0.20-0.40%% | 0.20%% Max | 0.10%% Max | 0.08%% Max

Width = 44.80 inches maximum; Thickness = 0.350 inches maximum; Yield Strength = 80,000 ksi minimum; Tensile Strength = 105,000 psi Aim.

Hot-rolled steel coil which meets the following chemical, physical and mechanical specifications:

C | Mn | P | S | Si | Cr | Cu | Ni | Nb | Ca | Al
0.15%% Max | 1.40%% Max | 0.025%% Max | 0.010%% Max | 0.50%% Max | 1.00%% Max | 0.50%% Max | 0.20%% Max | 0.005%% Min | Treated | 0.01-0.07%%

Width = 39.37 inches; Thickness = 0.181 inches maximum; Yield Strength = 70,000 psi minimum for thicknesses 0.148 inches and 65,000 psi minimum for thicknesses > 0.148 inches; Tensile Strength = 80,000 psi minimum.

• Hot-rolled dual phase steel, phase-hardened, primarily with a ferritic-martensitic microstructure, contains 0.9 percent up to and including 1.5 percent silicon by weight, further characterized by either (i) tensile strength between 540 N/mm2 and 640 N/mm2 and an elongation percentage 26 percent for thicknesses of 2 mm and above, or (ii) a tensile strength between 590 N/mm2 and 690 N/mm2 and an elongation percentage 25 percent for thicknesses of 2mm and above.

• Hot-rolled bearing quality steel, SAE grade 1050, in coils, with an inclusion rating of 1.0 maximum per ASTM E 45, Method A, with excellent surface quality and chemistry restrictions as follows: 0.012 percent maximum phosphorus, 0.015 percent maximum sulfur, and 0.20 percent maximum residuals including 0.15 percent maximum chromium.

• Grade ASTM A570-50 hot-rolled steel sheet in coils or cut lengths, width of 74 inches (nominal, within ASTM tolerances), thickness of 11 gauge (0.119 inch nominal), mill edge and skin passed, with a minimum copper content of 0.20%%.

The merchandise subject to this order is classified in the HTSUS at subheadings: 7208.10.15.00, 7208.10.30.00, 7208.10.60.00, 7208.25.30.00, 7208.25.60.00, 7208.26.00.30, 7208.26.00.60, 7208.27.00.30, 7208.27.00.60, 7208.36.00.30, 7208.36.00.60, 7208.37.00.30, 7208.37.00.60, 7208.38.00.15, 7208.38.00.30, 7208.38.00.90, 7208.39.00.15, 7208.39.00.30, 7208.39.00.90, 7208.40.60.30, 7208.40.60.60, 7208.53.00.00, 7208.54.00.00, 7208.90.00.00, 7210.70.30.00, 7210.90.90.00, 7211.14.00.30, 7211.14.00.90, 7211.19.15.00, 7211.19.20.00, 7211.19.30.00, 7211.19.45.00, 7211.19.60.00, 7211.19.75.30, 7211.19.75.60, 7211.19.75.90, 7212.40.10.00, 7212.40.50.00, and 7212.50.00.00. Certain hot-rolled flat-rolled carbon-quality steel covered by this order, including: vacuum degassed, fully stabilized; high strength low alloy; and the substrate for motor lamination steel may also enter under the following tariff numbers: 7225.11.00.00, 7225.19.00.00, 7225.30.30.50, 7225.30.70.00, 7225.40.70.00, 7225.99.00.90, 7226.11.10.00, 7226.11.90.30, 7226.11.90.60, 7226.19.10.00, 7226.19.90.00, 7226.91.50.00, 7226.91.70.00, 7226.91.80.00, and 7226.99.00.00. Although the HTSUS subheadings are provided for convenience and Customs purposes, the written description of the merchandise is dispositive.

Final Results Of Review

As stated in the Preliminary Results, neither JFE nor Kawasaki participated in this review. We did not receive comments on our decision to apply an adverse facts available (AFA) rate to JFE and Kawasaki.¹ Accordingly, we do not have any reason to reconsider our preliminary decision. Therefore, consistent with the Department's Preliminary Results, and in accordance with 19 CFR § 351.213(d)(3), we have made no changes to the dumping margins applied to JFE and Kawasaki in the Preliminary Results. As noted in the Memorandum to the File from Kimberley Hunt, Analyst, through Scott Lindsay, Acting Program Manager, and Barbara E. Tillman, Director, Office of AD/CVD Operations 6; Re: Notice of Correction to the Federal Register Notice for the Preliminary Results of the Administrative Review for Hot-Rolled Carbon Steel Flat Products from Japan, dated March 9, 2006, the language in the Preliminary Results stating that the request for review for this POR came from both Nucor Corporation (Nucor) and Ispat Inland Inc. was incorrect. The language in the Preliminary Results should have stated that the review had been requested solely by Nucor. This oversight does not in any way affect the margin in this review.

¹ As AFA, we applied the rate of 40.26 percent, which is the margin calculated in the section 129 redetermination of the original less than fair value (LTFV) investigation using information provided by Kawasaki, and the highest rate determined for any party in this proceeding. See Notice of Determination Under Section 129 of the Uruguay Round Agreement Act: Antidumping Measures on Certain Hot-Rolled Flat-Rolled Carbon-Quality Steel Products from Japan, 67 FR 71936 (December 3, 2002) (129 Determination).

We determine that the following dumping margins exist for the period June 1, 2004, through May 31, 2005:

Manufacturer/Exporter | Margin (percent)
JFE Steel Corporation | 40.26
Kawasaki Steel Corporation | 40.26

Duty Assessment

The Department will determine, and U.S. Customs and Border Protection (CBP) shall assess, antidumping duties on all appropriate entries, pursuant to 19 CFR § 351.212(b). We will direct CBP to assess the dumping rate listed above against all subject merchandise manufactured or exported by JFE or Kawaskai, and entered or withdrawn from warehouse for consumption during the POR. The Department will issue appropriate assessment instructions directly to CBP within 15 days of publication of these final results of review.

Cash Deposit Requirements

The following cash deposit rates will be effective with respect to all shipments of hot-rolled steel from Japan entered, or withdrawn from warehouse, for consumption on or after the publication date of these final results, as provided for by section 751(a)(1) of the Act: (1) for JFE and Kawasaki, the cash deposit rate shall be 40.26 percent (the AFA rate from the 129 Determination); (2) for previously reviewed or investigated companies not listed above, the cash deposit rate will continue to be the company-specific rate established for the most recent period; (3) if the exporter is not a firm covered in this review, a prior review, or the LTFV investigation, but the manufacturer is, the cash deposit rate will continue to be the rate established for the most recent period for the manufacturer of the subject merchandise; and (4) if neither the exporter nor the manufacturer is a firm covered by this review, a prior review, or the LTFV investigation, the cash deposit rate shall be the all others rate established in the section 129 redetermination of the LTFV investigation, which is 22.92 percent. See 129 Determination. These deposit rates, when imposed, shall remain in effect until publication of the final results of the next administrative review.

Notification To Importers

This notice serves as a final reminder to importers of their responsibility under 19 CFR § 351.402(f) to file a certificate regarding the reimbursement of antidumping duties prior to liquidation of the relevant entries during this review period. Failure to comply with this requirement could result in the Secretary's presumption that reimbursement of antidumping duties occurred and the subsequent assessment of double antidumping duties.

Administrative Protective Orders

This notice also serves as a reminder to parties subject to administrative protective orders (APOs) of their responsibility concerning the return or destruction of proprietary information disclosed under APO in accordance with 19 CFR § 351.305. Timely written notification of the return/destruction of APO materials or conversion to judicial protective order is hereby requested. Failure to comply with the regulations and terms of an APO is a violation that is subject to sanction.

This administrative review and notice are issued and published in accordance with sections 751(a)(1) and 777(i)(1) of the Act.

Dated: May 24, 2006.
David M. Spooner,
Assistant Secretary for Import Administration.

[FR Doc. E6-8511 Filed 5-31-06; 8:45 am]

BILLING CODE 3510-DS-S